DEPARTMENT OF EDUCATION

Accrediting Agencies Currently Undergoing Review for the Purpose of Recognition by the U.S. Secretary of Education

AGENCY: Accreditation Group, Office of Postsecondary Education, U.S. Department of Education.

ACTION: Call for written third-party comments.

SUMMARY: This notice provides information to members of the public on submitting written comments for accrediting agencies currently undergoing review for the purpose of recognition by the U.S. Secretary of Education.

FOR FURTHER INFORMATION CONTACT: Herman Bounds, Director, Accreditation Group, Office of Postsecondary Education, U.S. Department of Education, 400 Maryland Avenue SW, Fifth Floor, Washington, DC 20202, telephone: (202) 453-7615, or email: herman.bounds@ed.gov.

SUPPLEMENTARY INFORMATION: This request for written third-party comments concerning the performance of accrediting agencies under review by the Secretary of Education is required by 496(n)(1)(A) of the Higher Education Act (HEA) of 1965, as amended, and pertains to the winter 2025 meeting of the National Advisory Committee on Institutional Quality and Integrity (NACIQI). The meeting date and location have not been determined but will be announced in a later Federal Register notice. In addition, a later Federal Register notice will describe how to register to provide oral comments at the meeting. Note: Written comments about the specific agencies identified below will not be accepted or provided to NACIQI members if those comments are submitted after the deadline provided in this Federal Register notice, which is December 8, 2023. Written comments must be submitted to the mailbox identified below. Do not submit written comments directly to Department officials or to NACIQI members.

Agencies under Review and Evaluation: The Department requests written comments from the public on the following accrediting agencies, which are currently undergoing review and evaluation by the Accreditation Group, and which will be reviewed at the winter 2025 NACIQI meeting. The agencies are listed by the type of application or report each agency has submitted. Please note, each agency's current scope of recognition is indicated below. If any agency requested to expand its scope of recognition, identified are both the current scope of recognition and the requested scope of recognition.

Compliance Reports

1. American Occupational Therapy Association, Accreditation Council for Occupational Therapy Education. Scope of Recognition: The accreditation and preaccreditation of occupational therapy educational programs offering the professional master's degree and occupational therapy doctorate (OTD) degree; the accreditation of occupational therapy assistant programs offering a baccalaureate degree and associate degree; and the accreditation of these programs offered via distance education. Geographic Area of Accrediting Activities: The United States. The compliance report includes findings of noncompliance with certain criteria in 34 Code of Federal Regulations (CFR) part 602 identified in the October 19, 2022, letter from the senior Department official (SDO) following the July 19, 2022, NACIQI meeting. The SDO letter is available under NACIQI meeting date 7/19/2022, at https://surveys.ope.ed.gov/erecognition/#/public-documents.

2. Association for Clinical Pastoral Education. Scope of Recognition: The preaccreditation and accreditation of CPE Level I/Level II programs and Certified Educator CPE programs, and the accreditation of these programs offered via distance education. Geographic Area of Accrediting Activities: The United States. The compliance report includes findings of noncompliance with certain criteria in 34 CFR part 602 identified in the November 10, 2022, letter from the SDO following the July 19, 2022, NACIQI meeting. The SDO letter is available under NACIQI meeting date 7/19/2022, at https://surveys.ope.ed.gov/erecognition/#/public-documents.

3. Accrediting Council for Pharmacy Education. Scope of Recognition: The accreditation and pre-accreditation of professional degree programs in pharmacy leading to the degree of Doctor of Pharmacy, including those programs offered via distance education. Geographic Area of Accrediting Activities: The United States. The compliance report includes findings of noncompliance with certain criteria in 34 CFR part 602 identified in the November 7, 2022, letter from the SDO following the July 19, 2022, NACIQI meeting. The SDO letter is available under NACIQI meeting date 7/19/2022, at https://surveys.ope.ed.gov/erecognition/#/public-documents.

4. Middle States Commission on Secondary Schools. Scope of Recognition: The accreditation of institutions with postsecondary, non-degree granting career and technology programs, to include the accreditation of postsecondary, non-degree granting institutions that offer all or part of their educational programs via distance education modalities. Geographic Area of Accrediting Activities: The United States. The compliance report includes findings of noncompliance with certain criteria in 34 CFR part 602 identified in the October 19, 2022, letter from the SDO following the July 19, 2022, NACIQI meeting. The SDO letter is available under NACIQI meeting date 7/19/2022, at https://surveys.ope.ed.gov/erecognition/#/public-documents.

5. Southern Association of Colleges and Schools, Commission on Colleges. Scope of Recognition: The accreditation and pre-accreditation (“Candidate for Accreditation”) of degree-granting institutions of higher education in Alabama, Florida, Georgia, Kentucky, Louisiana, Mississippi, North Carolina, South Carolina, Tennessee, Texas, and Virginia, including the accreditation of educational programs offered via distance and correspondence education, and direct assessment within these institutions. The accreditation status of these institutions and their recognition extends to the SACSCOC Board of Trustees, Executive Council, and the Appeals Committee of the Collegiate College Delegate Assembly on cases of initial candidacy or initial accreditation and for continued accreditation or candidacy. The compliance report includes findings of noncompliance with certain criteria in 34 CFR part 602 identified in the November 7, 2022, letter from the SDO following the July 19, 2022, NACIQI meeting. The SDO letter is available under NACIQI meeting date 7/19/2022, at https://surveys.ope.ed.gov/erecognition/#/public-documents.

Submission of Written Comments Regarding a Specific Accrediting Agency Under Review

Written comments about the recognition of any of the accrediting agencies listed above must be received by December 8, 2023, in the ThirdPartyComments@ed.gov mailbox. Please include in the subject line “Written Comments: (agency name).” The electronic mail (email) must include the name(s), title, organization/affiliation, mailing address, email address, and telephone number of the person(s) making the comment. Comments should be submitted as a PDF, Microsoft Word document or in a medium compatible with Microsoft Word that is attached to an email or provided in the body of an email message. Comments about an agency that has submitted a compliance report scheduled for review by the Department must relate to the criteria for recognition cited in the SDO letter that requested the compliance report following the July 19, 2022, NACIQI meeting, or in the Secretary's appeal decision, if any. The SDO letters for the specific agencies referenced in this Federal Register notice are available under NACIQI meeting date 7/19/2022, at https://surveys.ope.ed.gov/erecognition/#/public-documents.

Only written materials submitted by the deadline to the email address listed in this notice, and in accordance with these instructions, become part of the official record concerning agencies scheduled for review and are considered by the Department and NACIQI in their deliberations. Written comments about the specific agencies identified in this Federal Register notice that are submitted after the deadline will not be considered by the Department or provided to NACIQI for purposes of the current review. However, comments may be provided orally at the winter 2025 NACIQI meeting, which has not yet been scheduled, but which will be announced in a future Federal Register notice.

Electronic Access to this Document: The official version of this document is the document published in the Federal Register. Free internet access to the official edition of the Federal Register and the Code of Federal Regulations is available via the Federal Digital System at: www.gpo.gov/fdsys. At this site, you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c; 20 U.S.C. 1099b.

Nasser Paydar,
Assistant Secretary for the Office of Postsecondary Education.

[FR Doc. 2023-24434 Filed 11-3-23; 8:45 am]

BILLING CODE P